DEPARTMENT OF HOMELAND SECURITY

[Docket No. DHS-2023-0041]

Establishment of Homeland Security Academic Partnership Council Subcommittees

AGENCY: The Office of Partnership and Engagement (OPE), The Department of Homeland Security (DHS).

ACTION: Notice of new taskings for the Homeland Security Academic Partnership Council (HSAPC).

SUMMARY: On November 14, 2023, the Secretary of DHS, Alejandro N. Mayorkas, issued three memoranda tasking the Homeland Security Academic Partnership Council (HSAPC) to establish three subcommittees further outlined below. This notice is not a solicitation for membership.

FOR FURTHER INFORMATION CONTACT: Zarinah “Traci” Silas, Executive Director of the Office of Academic Engagement and Designated Federal Officer, Homeland Security Academic Partnership Council, Department of Homeland Security at HSAPC@hq.dhs.gov or 202-891-2876.

SUPPLEMENTARY INFORMATION: The HSAPC provides organizationally independent, strategic, timely, specific, and actionable recommendations to the Secretary on key issues at the intersection of education, academia, and the DHS mission.

The Secretary has requested that the HSAPC form new subcommittees to study and provide recommendations in three critical areas for the Department:

1. Supporting K-12 school and higher education communities in fostering safety and inclusivity in schools and on campuses and supporting campus law enforcement professionals and others charged with keeping academic communities safe.

2. Combatting online child sexual exploitation and abuse (CSEA), including development of guidelines and best practices for educators and academic institutions to understand and reduce the risk of CSEA; establish processes and protocols to detect and report online CSEA and; partner with law enforcement and support communities to support investigations and victims. Additionally, the review and recommendation should include an assessment of DHS educational, awareness, and school safety resources to prevent, detect, and report CSEA. This should include best practices for content delivery, how it is delivered, who is delivering, and audience prioritization.

3. Foreign malign influence in higher education, including guidelines and best practices for higher education institutions to reduce the risk of and counter foreign malign influence; consideration of a public-private partnership to enhance collaboration and information sharing on foreign malign influence; and an assessment of how the U.S. Government can enhance its internal operations and posture to effectively coordinate and address foreign malign influence-related national security risks posed to higher education institutions.

Schedule: The subcommittees' findings and recommendations will be submitted to the HSAPC for its deliberation and vote during a public meeting on December 13, 2023 and a public meeting in Spring 2024.

Zarinah T. Silas,
Designated Federal Officer, Homeland Security Academic Partnership Council, U.S. Department of Homeland Security.

[FR Doc. 2023-25781 Filed 11-21-23; 8:45 am]

BILLING CODE 9112-FN-P